DEPARTMENT OF HEALTH AND HUMAN SERVICES

Centers for Disease Control and Prevention

[Request for Application (RFA) AA220]

Partnering With the National Institute of Hygiene and Epidemiology To Enhance Public Health Capacity for HIV Prevention and Care Activities in the Socialist Republic of Viet Nam, as Part of the President's Emergency Plan for AIDS Relief; Notice of Intent To Fund Single Eligibility Award

A. Purpose

The Centers for Disease Control and Prevention (CDC) announces the intent to fund fiscal year (FY) 2005 funds for a cooperative agreement program to provide improved HIV prevention, care, and treatment in Vietnam through support and development of national laboratory systems, and implementation of surveillance and monitoring and evaluation (M&E) activities. The Catalog of Federal Domestic Assistance number for this program is 93.067.

B. Eligible Applicant

Assistance will be provided only to the Vietnamese National Institute of Hygiene and Epidemiology (NIHE). No other applications are solicited.

The award specifically aims to use existing capacity through NIHE to aid in providing Viet Nam with increased laboratory capability, including developing a national reference laboratory and quality-assurance and quality-control systems (QA/QC); improving national surveillance and M&E through routine and special projects; and developing a national action plan, and other surveillance activities, as necessity dictates. Currently, the NIHE is the single institute in Viet Nam sanctioned by the Vietnamese Government to conduct laboratory activities, and, thus, the only appropriate and qualified organization to conduct this specific set of activities supportive of the President's Emergency Plan for AIDS Relief.

In addition, NIHE is uniquely positioned in terms of legal authority and credibility among Vietnamese health institutions to provide national surveillance and laboratory leadership in the area of HIV/AIDS prevention and control. NIHE has already established mechanisms to provide national laboratory leadership, and national surveillance and M&E activities, which enables it to immediately become engaged in the activities listed in this announcement.

NIHE is organizationally within the Vietnamese MOH, and can effectively coordinate and implement HIV prevention and care activities supported by the MOH and its other agencies. Although other Vietnamese Government Ministries are involved in HIV prevention and care, currently most activities occur through the MOH.

C. Funding

Approximately $500,000 is available in FY 2005 to fund this award September 15, 2005, and will be made for a 12-month budget period within a project period of up to five years. Funding estimates may change.

D. Where to Obtain Additional Information

For general comments or questions about this announcement, contact: Technical Information Management, CDC Procurement and Grants Office, 2920 Brandywine Road, Atlanta, GA 30341-4146, Telephone: 770-488-2700.

For program technical assistance, contact: S. Patrick Chong, Deputy Director, Global AIDS Program [GAP], Vietnam National Center for HIV, STD and TB Prevention, Centers for Disease Control and Prevention [CDC], U.S. Embassy Hanoi, 7 Lang Ha, Hanoi, Vietnam, Telephone: +84 (4) 831-4580, ext. 215, E-mail: pchong@cdc.gov.

For financial, grants management, or budget assistance, contact: Vivian Walker, Grants Management Specialist, CDC Procurement and Grants Office, 2920 Brandywine Road, Mail stop: E-14, Atlanta, GA 30341, Telephone: 770-488-2724, E-mail: VWalker@cdc.gov.

Dated: August 11, 2005.
William P. Nichols,
Director, Procurement and Grants Office, Centers for Disease Control and Prevention.

[FR Doc. 05-16361 Filed 8-17-05; 8:45 am]

BILLING CODE 4163-18-P